FEDERAL COMMUNICATIONS COMMISSION

[DA 03-876]

Consumer Advisory Committee

AGENCY: Federal Communications Commission.

ACTION: Notice.

SUMMARY: This document announces the first meeting date, agenda, and membership of the Consumer Advisory Committee (hereinafter “the Committee”), whose purpose is to make recommendations to the Federal Communications Commission (“FCC” or “Commission”) regarding consumer issues within the jurisdiction of the Commission and to facilitate the participation of consumers (including people with disabilities and underserved populations, such as Native Americans and persons living in rural areas) in proceedings before the Commission. Additional meeting dates for calendar year 2003 are also announced.

DATES: The first meeting of the Committee will take place on Friday, April 25, 2003, from 9 a.m. to 5 p.m. Additional meetings for calendar year 2003 will occur at the same time on July 11 and November 20.

ADDRESSES: The Committee will meet at the Commission's headquarters building, Room TW-C305, 445 12th Street, SW., Washington, DC 20554. Additional meetings during calendar 2003 will be held at the same location.

FOR FURTHER INFORMATION CONTACT: Scott Marshall, 202-418-2809 (voice) or 202-418-0179 (TTY), E-mail: cac@fcc.gov.

SUPPLEMENTARY INFORMATION: This is a summary of the Commission's Public Notice DA 03-876, released March 28, 2003. The Commission announced the first meeting date, meeting agenda, and membership of its Consumer Advisory Committee. Additional meeting dates for calendar year 2003 were also announced. The rechartering of the Committee had been announced by Public Notice dated December 31, 2002 (see DA 02-3606) as published in the Federal Register, 68 FR 2047, January 15, 2003.

Purpose and Functions

The purpose of the committee is to make recommendations to the Commission regarding consumer issues within the jurisdiction of the Commission and to facilitate the participation of consumers (including people with disabilities and underserved populations, such as Native Americans and persons living in rural areas) in proceedings before the Commission.

During its two year term, the Committee will address a number of topics including, but not limited to, the following areas:

• Consumer protection and education (e.g., cramming, slamming, consumer friendly billing, detariffing, bundling of services, Lifeline/Linkup programs, customer service, privacy, telemarketing abuses, and outreach to underserved populations, such as American Indians and persons living in rural areas).

• Access by people with disabilities (e.g., telecommunications relay services, closed captioning, accessible billing, and access to telecommunications products and services).

• Impact upon consumers of new and emerging technologies (e.g., availability of broadband, digital television, cable, satellite, low power FM, and the convergence of these and emerging technologies).

• Implementation of Commission rules and consumer participation in the FCC rulemaking process.

Members

The Commission received over one hundred (100) applications for membership on the Committee, from twenty-eight (28) states and the District of Columbia. After a careful review of these applications, thirty-five (35) members were appointed to the Committee (thirty organizational members and five individual members). This selected group is designed to be represented of the Commission's many constituencies, and the expertise and diversity selected will provide a balanced point of view as required by the Federal Advisory Committee Act. In addition, in accordance with Section K. of the Committee's Charter, Chairman Michael K. Powell hereby appoints Shirley L. Rooker, President, Call For Action, as the Committee's Chairperson. All appointments are effective immediately and shall terminate November 20, 2004 or until the committee is terminated, whichever is earlier.

The roster of the Committee, as appointed by Chairman Powell, is as follows:

1. AARP, Jeff Kramer, Senior Legislative Representatives;

2. Affiliated Tribes of NW Indians Economic Development Corp., Cheryl Johnson, Tribal Telephone Outreach Coordinator;

3. Alliance for Public Technology, Matthew D. Bennett, Public Policy Director;

4. American Council of the Blind, David Poehlman, Technology Access Consultant;

5. AT&T Corp., Michael F. del Casino, Regulatory Director;

6. Bell South, Cindy Cox, Senior Director-Regulatory & External Affairs, Retail Markets;

7. Brugger Consulting, David Brugger, President & CEO;

8. Call For Action, Shirley L. Rooker, President;

9. Cellular Telecommunications and Internet Association, Andrea Williams, Assistant General Counsel;

10. Cingular Wireless, Susan Palmer, Director, Federal Regulatory Affairs;

11. Consumer Policy Consulting, Debra Berlyn, President.

12. Consumer First, Inc., Jim Conran, President.

13. Deaf and Hard of Hearing Consumer Action Network, Claude Stout;

14. Mike Duke (representing interests of blind or visually impaired persons, licensed radio amateur operators, and management of audio information services for the blind);

15. Fight Back Foundation for Consumer Education, David Horowitz, Chairman;

16. Stephen Gregory (representing interests of persons with hearing loss and small business owners);

17. Hamilton Telephone Company, dba Hamilton Relay Service, Dixie Ziegler, Director of Relay;

18. Hometown Online, subsidiary of Warwick Valley Telephone Company, Donald Snoop, Managing Director;

19. Rebecca Ladew (representing the interests of users of speech-to-speech technology);

20. League for the Hard of Hearing, Joseph Gordon, Chair, Telecommunications Committee;

21. LTC Consulting/Teletruth, Thomas Allibone, President and Director of Auditing;

22. MCI, Annette Cleckner, Senior Manager Consumer Affairs;

23. Media Access Group, WGBH, Larry Goldberg, Director;

24. National Association of Broadcasters, Karen Kirsch, Vice President of Regulatory Affairs;

25. National Association of Consumer Agency Administrators, Ronald Mallard, Director, Fairfax County Department of Cable Communications & Consumer Protection;

26. National Association of State Relay Administration, Brenda Kelly-Frey, TRS Administrator-State of Maryland;

27. National Association of State Utility Consumer Advocates, Joy M. Ragsdale, Assistant People's Counsel, Washington, DC;

28. National Consumers League, Susan Grant, Vice President for Public Policy;

29. National Translator Association, Byron W. St. Clair, President;

30. National Urban League, Milton J. Little, Jr., Executive Vice President & Chief Operating Officer;

31. Mark Pranger (representing the interests of academia and consumers concerned with telecommunication service in rural America);

32. San Carlos Apache Telecommunications Utility, Inc., Vernon R. James, General Manager;

33. Telecommunications Industry Association, Eugene Seagriff, Product Accessibility Manager, Product Safety & Compliance Division, Panasonic Techologies, Inc.;

34. Verizon Communications, Richard T. Ellis, Director, Federal Regulatory Advocacy; and

35. Linda West (representing the interests of the Native American community and other consumers concerned with telecommunication services in rural America).

Meeting Dates and Agenda

The first meeting of the Committee will take place on Friday, April 25, 2003, 9 a.m. to 5 p.m., at the Commission's headquarters Building, Room TW-C305, 445 12th Street, SW., Washington, DC 20554. Additional meetings for calendar year 2003 will be held on July 11 and November 20, at the same time and location.

At its April 25, 2003 meeting, the Committee will address matters of internal business and organization, including the establishment of working groups, and will consider consumer issues within the jurisdiction of the Commission.

Availability of Copies and Electronic Accessibility

A copy of the March 28, 2003 Public Notice is available in alternate formats (Braille, cassette tape, large print or diskette) upon request. It is also posted on the Commission's Web site at http://www.fcc.gov/cgb/cac. The Committee meetings will be broadcast on the Internet in Real Audio/Real Video format with captioning at http://www.fcc.gov/cgb/cac. Meetings will be sign language interpreted, and real-time transcription and assistive listening devices will be also available. The meeting site is fully accessible to people with disabilities. Copies of meeting agendas and handout materials will also be provided in accessible formats. Meeting minutes will be available for public inspection at the FCC headquarters building and will be posted on the Commission's Web site at http://www.fcc.gov/cgb/cac.

The Committee meeting will be open to the public and interested persons may attend the meeting and communicate their views. Members of the public will have an opportunity to address the Committee on issues of interest to them and the Committee. Written comments for the Committee may also be sent to the Committee's Designated Federal Officer, Scott Marshall.

Federal Communications Commission.
K. Dane Snowden,
Chief, Consumer & Government Affairs Bureau.

[FR Doc. 03-8201 Filed 4-3-03; 8:45 am]

BILLING CODE 6712-01-M